DEPARTMENT OF AGRICULTURE

Forest Service

Notice of Mineral County Resource Advisory Committee Meeting

AGENCY: Forest Service, USDA.

ACTION: Notice of meetings.

SUMMARY: Pursuant to the authorities in the Federal Advisory Committee Act (Pub. L. 92-463) and under the Secure Rural Schools and Community Self-Determination Act of 2000 (Pub. L. 106-393) the Lolo National Forest's Mineral County Resource Advisory Committee will meet on the first Tuesday of each of the next five months from January 2006 through May 2006. Meetings begin at 6 p.m. in Superior, Montana and are open to the public. Meetings normally last two hours.

DATES: January 3, February 7, March 7, April 4, and May 2, 2006.

ADDRESSES: The meetings will be held at the Mineral County Courthouse, 300 River Street, Superior, MT 59872.

FOR FURTHER INFORMATION CONTACT: Robert Harper, Designated Forest Official (DFO), District Ranger, Lolo National Forest, at (406) 822-4233.

SUPPLEMENTARY INFORMATION: Agenda topics for all five meetings will focus on presentation and discussion of new project proposals, as authorized under Title II of PL 106-393. Selection of projects will occur at the April and May meetings. Meetings will be announced in local newspapers, the Mineral Independent and the Missoulian.

Dated: February 21, 2006.
Robert Harper,
Designated Forest Official.

[FR Doc. 06-2292 Filed 3-9-06; 8:45 am]

BILLING CODE 3410-11-M